FEDERAL COMMUNICATIONS COMMISSION

47 CFR Part 79

[CG Docket No. 05-231; FCC 09-109]

Closed Captioning of Video Programming

AGENCY: Federal Communications Commission.

ACTION: Final rule.

SUMMARY: In this document, the Commission amends the closed captioning rules to add another method by which video programming distributors may provide contact information to the Commission for the handling of immediate closed captioning concerns and written closed captioning complaints.

DATES: 47 CFR 79.1(i)(3), published at 74 FR 1594, January 13, 2009, and the revisions in this document are effective February 19, 2010.

FOR FURTHER INFORMATION CONTACT: Amelia Brown, Consumer and Governmental Affairs Bureau, Disability Rights Office at (202) 418-2799 (voice), (202) 418-7804 (TTY), or e-mail at Amelia.Brown@fcc.gov.

SUPPLEMENTARY INFORMATION: This is a summary of the Commission's document FCC 09-109, Closed Captioning of Video Programming, CG Docket No. 05-231, Order, adopted December 4, 2009, and released December 11, 2009. The full text of document FCC 09-109 and copies of any subsequently filed documents in this matter will be available for public inspection and copying during regular business hours at the FCC Reference Information Center, Portals II, 445 12th Street, SW., Room CY-A257, Washington, DC 20554. Document FCC 09-109 and copies of subsequently filed documents in this matter also may be purchased from the Commission's duplicating contractor at Portals II, 445 12th Street, SW., Room CY-B402, Washington, DC 20554. Customers may contact the Commission's duplicating contractor at its Web site http://www.bcpiweb.com or by calling 1-800-378-3160.

To request materials in accessible formats for people with disabilities (Braille, large print, electronic files, audio format), send an e-mail to fcc504@fcc.gov or call the Consumer and Governmental Affairs Bureau at (202) 418-0530 (voice) or (202) 418-0432 (TTY). Document FCC 09-109 also can be downloaded in Word or Portable Document Format (PDF) at: http://www.fcc.gov/cgb/dro/caption.html.

Synopsis

1. On November 7, 2008, the Commission released Closed Captioning of Video Programming, Closed Captioning Requirements for Digital Television Receivers, CG Docket No. 05-231, ET Docket No. 99-254, Declaratory Ruling, Order, and Notice of Proposed Rulemaking, FCC 08-255 (2008 Closed Captioning Order), published at 74 FR 1594, January 13, 2009, which, among other things, requires video programming distributors to provide the Commission with contact information for the handling of immediate closed captioning concerns and written closed captioning complaints. Specifically, in a new § 79.1(i)(3) of its rules, the Commission required video programming distributors to file the required contact information with the Chief of the Disability Rights Office, Consumer and Governmental Affairs Bureau, or by sending the information to CLOSEDCAPTIONING_POC@fcc.gov.

2. In anticipation of a large number of submissions and volume of information the Commission expects to receive, it has established an electronic webform as an additional method by which video programming distributors may submit their contact information to the Commission. To submit their contact information in this manner, video programming distributors will enter contact information in specific fields and, once submitted, this information will be available almost immediately for online searching by the public. This approach will promote compliance with the rule by facilitating the submission and availability of complete and accurate contact information. While video programming distributors may use any of the three methods described in § 79.1(i)(3), the Commission encourages video programming distributors to submit their contact information through this online, self-service webform. Because this additional method of providing contact information was not provided for in the 2008 Closed Captioning Order or in § 79.1(i)(3) of the Commission's rules, the Commission is amending § 79.1(i)(3) of its rules to allow for the filing of contact information through a webform.

Congressional Review Act

The Commission has sent a copy of the document FCC 09-109 in a report to be sent to Congress and the Government Accountability Office pursuant to the Congressional Review Act.

Ordering Clause

Pursuant to 47 U.S.C. 154(i), 303(r) and 613, document FCC 09-109 is adopted.

List of Subjects in 47 CFR Part 79

Cable television operators, Multichannel video programming distributors (MVPDs), Satellite television service providers, Television broadcasters.

Federal Communications Commission.
Marlene H. Dortch,
Secretary.

Rule Changes

For the reasons discussed in the preamble, the Federal Communications Commission amends 47 CFR part 79 to read as follows:

PART 79—CLOSED CAPTIONING OF VIDEO PROGRAMMING

1. The authority citation for part 79 continues to read as follows:

Authority: 47 U.S.C. 151, 152(a), 154(i), 303, 307, 309, 310, 613.

2. Section 79.1 is amending by revising paragraph (i)(3) to read as follows:

§ 79.1 Closed captioning of video programming.

* * * * *

(i) * * *

(3) Providing contact information to the Commission. Video programming distributors shall file the contact information described in this section with the Commission in one of the following ways: through a webform located on the FCC website; with the Chief of the Disability Rights Office, Consumer and Governmental Affairs Bureau; or by sending an e-mail to CLOSED CAPTIONING_POC@fcc.gov. Contact information shall be available to consumers on the FCC Web site or by telephone inquiry to the Commission's Consumer Center. Distributors shall notify the Commission each time there is a change in any of this required information within 10 business days.

* * * * *

[FR Doc. 2010-3264 Filed 2-18-10; 8:45 am]

BILLING CODE 6712-01-P